NATIONAL TRANSPORTATION SAFETY BOARD

Meetings; Sunshine Act

Agenda

Time and Date: 9:30 a.m., Tuesday, July 28, 2009.

Place: NTSB Conference Center, 429 L'Enfant Plaza SW., Washington, DC. 20594.

Status: The one item is open to the public.

Matter to be Considered: 8132 Aircraft Accident Report—Crash of Cessna 500, N113SH, Following an In-Flight Collision With Large Birds, Oklahoma City, Oklahoma, March 4, 2008

News Media Contact: Telephone: (202) 314-6100.

The press and public may enter the NTSB Conference Center one hour prior to the meeting for set up and seating.

Individuals requesting specific accommodations should contact Rochelle Hall at (202) 314-6305 by Friday, July 24, 2009.

The public may view the meeting via a live or archived Web cast by accessing a link under “News & Events” on the NTSB home page at http://www.ntsb.gov.

FOR MORE INFORMATION CONTACT: Vicky D'Onofrio, (202) 314-6410.

Dated: Friday, July 10, 2009.
Vicky D'Onofrio,
Federal Register Liaison Officer.

[FR Doc. E9-16864 Filed 7-13-09; 11:15 am]

BILLING CODE 7533-01-P